FEDERAL MARITIME COMMISSION

[Docket No. 24-22]

Giti Tire (USA) Ltd., Complainant v. Flexport International LLC, Respondent; Notice of Filing of Complaint and Assignment

Served: May 20, 2024.

Notice is given that a complaint has been filed with the Federal Maritime Commission (the “Commission”) by Giti Tire (USA) Ltd. (the “Complainant”) against Flexport International LLC (the “Respondent”). Complainant states that the Commission has subject matter jurisdiction over the complaint pursuant to the Shipping Act of 1984, as amended, 46 U.S.C. 40101 et seq. and personal jurisdiction over the Respondent as a non-vessel-operating common carrier, as defined in 46 U.S.C. 40102(17).

Complainant is a Delaware corporation with its principal place of business located in Rancho Cucamonga, California.

Complainant identifies Respondent as a Delaware limited liability company with a principal place of business in San Fransisco, California.

Complainant alleges that Respondent violated 46 U.S.C. 41102(c), 41104(a)(14), 41104(a)(15), and 41104(d) and 46 CFR 545.4 and 545.5. Complainant alleges these violations arose from the issuance of invoices for detention and demurrage charges that did not contain the information required under 46 U.S.C. 41104(d)(2), for charges that were already invoiced to other parties, and for charges that were excessive or unreasonable.

An answer to the complaint must be filed with the Commission within 25 days after the date of service.

The full text of the complaint can be found in the Commission's electronic Reading Room at https://www2.fmc.gov/readingroom/proceeding/24-22/. This proceeding has been assigned to the Office of Administrative Law Judges. The initial decision of the presiding judge shall be issued by May 20, 2025, and the final decision of the Commission shall be issued by December 4, 2025.

David Eng,
Secretary.

[FR Doc. 2024-11331 Filed 5-22-24; 8:45 am]

BILLING CODE 6730-02-P